ELECTION ASSISTANCE COMMISSION

Notice; Request for Comment; Correction

AGENCY: Election Assistance Commission.

ACTION: Notice; correction.

SUMMARY: The U.S. Election Assistance Commission published a document in the Federal Register on July 24, 2025 regarding a notice that it is requesting OMB approval for the extension of information collection of four Testing and Certification forms. The notice contained an incorrect phone number.

FOR FURTHER INFORMATION CONTACT: Paul Aumayr, 202-476-9051, or email, paumayr@eac.gov; U.S. Election Assistance Commission, 633 3rd Street NW, Suite 200, Washington, DC 20001.

SUPPLEMENTARY INFORMATION:

Correction

In the Federal Register of July 24, 2025, in FR Doc. 2025-13959, on page 34854 in the second column, correct the FOR FURTHER INFORMATION CONTACT to read:

Paul Aumayr, Senior Election Technology Specialist, Testing and Certification Program, Washington DC, 202-476-9051. All requests and submissions should be identified by the title of the information collection.

Seton Parsons,
Associate Counsel, U.S. Election Assistance Commission.

[FR Doc. 2025-14299 Filed 7-28-25; 8:45 am]

BILLING CODE 4810-71-P